DEPARTMENT OF THE INTERIOR

Bureau of Reclamation

Rocky Boy's/North Central Montana Regional Water System, Water Conservation Plan

AGENCY: Bureau of Reclamation, Interior.

ACTION: Notice of finding.

SUMMARY: The Rocky Boy's/North Central Montana Regional Water System Act of 2002 (Pub. L. 107-331) authorized construction of the Rocky Boy's/North Central Montana Regional Water System in north-central Montana. To meet the requirements of the Act, the Chippewa Cree Tribe and the North Central Montana Regional Water Authority developed and submitted a water conservation plan to Reclamation.

FOR FURTHER INFORMATION CONTACT: Doug Oellermann, Bureau of Reclamation, Montana Area Office, PO Box 30107, Billings, Montana 59107-0137, or at (406) 247-7333 or by e-mail at doellermann@gp.usbr.gov.

SUPPLEMENTARY INFORMATION:

Finding

The Chippewa Cree Tribe and the North Central Montana Regional Water Authority submitted the “Water Conservation Plan, Rocky Boy's/North Central Montana Regional Water System” dated September 2004, that includes prudent and reasonable water conservation measures for the operation of the Rocky Boy's/North Central Montana Regional Water System that have been shown to be economically and financially feasible.

In addition to authorizing construction of the Rocky Boy's/North Central Montana Regional Water System, the Act authorizes appropriations of $202,880,000 to Reclamation. The Act states under section 906(3) that ”The Secretary shall not obligate funds for construction of the core system or the noncore system until the Secretary publishes a written finding that the water conservation plan developed under section 911(a) includes prudent and reasonable water conservation measures for the operation of the Rocky Boy's/North Central Montana Regional Water System that have been shown to be economically and financially feasible.”

The requirements for the conservation plan are described under section 911 of the Act that states:

“(a) In General—The Tribe and the Authority shall develop and incorporate into the final engineering report a water conservation plan that contains—

“(1) a description of water conservation objectives;

“(2) a description of appropriate water conservation measures; and

“(3) a time schedule for implementing the water conservation measures to meet the water conservation objectives.

“(b) Purpose—The water conservation plan under subsection (a) shall be designed to ensure that users of water from the core system, on-reservation water distribution systems, and the noncore system will use the best practicable technology and management techniques to conserve water.”

To fulfill the requirements of section 911, the Chippewa Cree Tribe and the North Central Montana Regional Water Authority transmitted a water conservation plan (Plan) to Reclamation, dated September 2004. The Plan fulfills all the requirements of the Act as discussed below.

In fulfillment of section 911(a)(1), the Plan contains six reasonable and prudent water conservation objectives appropriate for the pre-construction phase of this multi-phase project:

1. Keep system per capita water use below 196 gallons per capita per day.

2. Keep variable operation and maintenance costs under Final Engineering Report (FER) levels.

3. Develop drought/emergency preparedness plans to deal with a 12-hour project shutdown.

4. Initiate education/outreach and public involvement efforts.

5. Limit Tiber Reservoir withdrawals to FER levels.

6. Extend the life of the project by conserving water.

To accomplish these objectives, and in fulfillment of section 911(a)(2) of the Act, the Plan identifies 15 water conservation measures (Table 1-1 of the Plan) to be implemented starting in Year 1 of construction with full implementation scheduled by Year 5, the second year that treated water will be delivered to non-core users.

Pre-Water Delivery

1. Meter all water deliveries.

2. Adopt water-conserving rate structure for off-reservation systems.

3. Initiate education/outreach and public involvement efforts.

4. Secure supplies of educational materials.

5. Develop drought/emergency preparedness plans.

6. Work with wholesale water purchasers to develop individual water conservation plans.

7. Develop strategies and any necessary ordinances, regulations, contracts or similar arrangements/documents.

8. Develop design criteria to reflect water conservation considerations.

First Year of Water Delivery

1. Maintain pro-active education/outreach efforts, including public meetings, news articles, etc.

2. Prepare annual report highlighting conservation program problems, successes, cost-benefit comparisons, etc. and make this information available and responsive to the public.

3. Continue to work with wholesale water purchasers and the Rocky Boy Reservation.

Long-Term Water Conservation Program

1. An annual review to identify problems, suggest improvements, and solicit input from concerned parties.

2. Continued outreach/education efforts.

3. Targeted public relations activities.

4. Continued enforcement of applicable rules and regulations.

Reclamation Manual Directives and Standards (WTR 01-01), published in December 1996, identify “Fundamental Water Conservation Measures” that are considered economically and financially feasible and applicable to all water conservation programs. The fundamental measures include a water measurement and accounting system, water pricing structure, and an information and education program. All but one of the water conservation measures included in the Plan are considered by Reclamation as fundamental. The conservation measure which is to develop drought/emergency preparedness plans, while not considered fundamental, is an additional water conservation measure under WTR 01-01 and will not result in increased project cost.

In fulfillment of section 911(a)(3), the plan contains a time schedule for implementing the measures to meet the water conservation objectives. This time scheduled is included with the above description of the objectives and measures.

In fulfillment of section 911(b), Reclamation has reviewed and determined that the water conservation plan has been designed to ensure that the water users will use the best practicable technology and management techniques to conserve water.

Dated: November 8, 2004.
Gerald W. Kelso,
Acting Regional Director, Great Plains Region.

[FR Doc. 04-27278 Filed 12-10-04; 8:45 am]

BILLING CODE 4310-MN-P